DEPARTMENT OF AGRICULTURE

Forest Service

Roadless Area Conservation National Advisory Committee

AGENCY: Office of the Secretary, USDA.

ACTION: Notice; committee charter amendment.

SUMMARY: The Secretary of Agriculture is amending the charter of the Roadless Area Conservation National Advisory Committee, under the authority of the Federal Advisory Committee Act. The amended purpose of the Roadless Area Conservation National Advisory Committee is to provide advice and recommendations to the Secretary on petitions received from States regarding roadless area management received by the Secretary, or his designee, under the authority of the Administrative Procedure Act, 5 U.S.C. 553(e) and 7 CFR 1.28.

FOR FURTHER INFORMATION CONTACT: Bill Supulski, National Roadless Coordinator, at bsupulski@fs.fed.us or (202) 205-0948, USDA Forest Service, 1400 Independence Avenue, SW., Mailstop 1104, Washington, DC 20250.

Individuals who use telecommunication devices for the deaf (TDD) may call the Federal Information Relay Service (FIRS) at 1-800-877-8339 between 8 a.m. and 8 p.m., Eastern Standard Time, Monday through Friday.

SUPPLEMENTARY INFORMATION: Pursuant to the Federal Advisory Committee Act (5 U.S.C. App. II), notice is hereby given that the Secretary of Agriculture intends to amend the charter of the Roadless Area National Advisory Committee. The Secretary has determined the work of this Committee is in the public interest and relevant to the duties of the Department of Agriculture. The amended purpose of the Roadless Area Conservation National Advisory Committee is to provide advice and recommendations to the Secretary on petitions received from States regarding roadless area management received by the Secretary, or his designee, under the authority of the Administrative Procedure Act, 5 U.S.C. 553(e) and 7 CFR 1.28. The Advisory Committee will review submitted petitions and provide advice and recommendations to the Secretary within 90 days of receipt of a completed petition. The Committee will also provide advice and recommendations to the Secretary on any subsequent State-specific rulemakings.

This Advisory Committee shall consist of up to 15 members appointed by the Secretary of Agriculture or the Secretary's designee. The Committee Chair will be elected by the members. Officers or employees of the Forest Service may not serve as members of the Advisory Committee. The Advisory Committee shall consist of members who represent diverse national organizations interested in the conservation and management of National Forest System inventoried roadless areas.

Dated: September 29, 2006.
David P. Tenny,
Deputy Under Secretary, Natural Resources and Environment.

[FR Doc. E6-16378 Filed 10-3-06; 8:45 am]

BILLING CODE 3410-11-P